DEPARTMENT OF EDUCATION

[Docket No.: ED-2022-SCC-0064]

Agency Information Collection Activities; Submission to the Office of Management and Budget for Review and approval; Comment Request; Rural Education Achievement Program: Small, Rural School Achievement Program and Rural and Low-Income School Program Application

AGENCY: Office of Elementary and Secondary Education (OESE), Department of Education (ED).

ACTION: Notice.

SUMMARY: In accordance with the Paperwork Reduction Act of 1995, ED is proposing a revision of a currently approved collection.

DATES: Interested persons are invited to submit comments on or before September 6, 2022.

ADDRESSES: Written comments and recommendations for proposed information collection requests should be sent within 30 days of publication of this notice to www.reginfo.gov/public/do/PRAMain. Find this information collection request (ICR) by selecting “Department of Education” under “Currently Under Review,” then check the “Only Show ICR for Public Comment” checkbox. Reginfo.gov provides two links to view documents related to this information collection request. Information collection forms and instructions may be found by clicking on the “View Information Collection (IC) List” link. Supporting statements and other supporting documentation may be found by clicking on the “View Supporting Statement and Other Documents” link.

FOR FURTHER INFORMATION CONTACT: For specific questions related to collection activities, please contact Staci Cummins, (202) 453-6504.

SUPPLEMENTARY INFORMATION: The Department, in accordance with the Paperwork Reduction Act of 1995 (PRA) (44 U.S.C. 3506(c)(2)(A)), provides the general public and Federal agencies with an opportunity to comment on proposed, revised, and continuing collections of information. This helps the Department assess the impact of its information collection requirements and minimize the public's reporting burden. It also helps the public understand the Department's information collection requirements and provide the requested data in the desired format. ED is soliciting comments on the proposed ICR that is described below. The Department is especially interested in public comments addressing the following issues: (1) is this collection necessary to the proper functions of the Department; (2) will this information be processed and used in a timely manner; (3) is the estimate of burden accurate; (4) how might the Department enhance the quality, utility, and clarity of the information to be collected; and (5) how might the Department minimize the burden of this collection on the respondents, including through the use of information technology. Please note that written comments received in response to this notice will be considered public record.

Title of Collection: Rural Education Achievement Program: Small, Rural School Achievement Program and Rural and Low-Income School Program Application.

OMB Control Number: 1810-0646.

Type of Review: Revision of a currently approved collection, Respondents/Affected Public: State, Local, and Tribal Governments.

Total Estimated Number of Annual Responses: 4,565.

Total Estimated Number of Annual Burden Hours: 4,120.

Abstract: The U.S. Department of Education (the Department) administers two grant programs under Title V, Part B (Rural Education Achievement Program (REAP) of the Elementary and Secondary Education Act of 1965 (ESEA): the Small, Rural School Achievement (SRSA) program (administered by the Department, which makes awards directly to local educational agencies (LEAs)) and the Rural and Low-Income School (RLIS) program (awarded by the Department to SEAs, which then make awards to and administer the program for LEAs, except that the Department may also make RLIS awards directly to LEAs in States that do not submit an approvable RLIS application to the Department. The LEAs that apply directly to the Department under RLIS are known as Specially Qualified Agencies (SQAs)).

This proposed application package is a revision of current information collection package (OMB #1810-0646), updated to include process improvements and enhance consistency across Forms 1,2, and 3. Updates include clarifications to data collection processes (e.g., which year data is requested), improved question structure, and process improvements related to LEA eligibility (e.g., clarifying virtual and operational status).

Dated: August 1, 2022.
Kun Mullan,
PRA Coordinator, Strategic Collections and Clearance, Governance and Strategy Division, Office of Chief Data Officer, Office of Planning, Evaluation and Policy Development.

[FR Doc. 2022-16773 Filed 8-4-22; 8:45 am]

BILLING CODE 4000-01-P